DEPARTMENT OF ENERGY

Federal Energy Regulatory Commission

Combined Notice of Filings #1

Take notice that the Commission received the following electric rate filings:

Docket Numbers: ER10-2602-004.

Applicants: NewPage Energy Services, LLC.

Description: NewPage Energy Services, LLC Market-Based Rate Tariff to be effective 2/12/2013.

Filed Date: 2/11/13.

Accession Number: 20130211-5141.

Comments Due: 5 p.m. e.t. 3/4/13.

Docket Numbers: ER10-2603-002.

Applicants: Rumford Paper Company.

Description: Rumford Paper Company Market-Based Rate Tariff to be effective 2/12/2013.

Filed Date: 2/11/13.

Accession Number: 20130211-5150.

Comments Due: 5 p.m. e.t. 3/4/13.

Docket Numbers: ER10-2604-002.

Applicants: Luke Paper Company.

Description: Luke Paper Company Market-Based Rate Tariff to be effective 2/12/2013.

Filed Date: 2/11/13.

Accession Number: 20130211-5136.

Comments Due: 5 p.m. e.t. 3/4/13.

Docket Numbers: ER10-2606-004.

Applicants: Consolidated Water Power Company.

Description: Consolidated Water Power Company Market-Based Rate Tariff to be effective 2/12/2013.

Filed Date: 2/11/13.

Accession Number: 20130211-5129.

Comments Due: 5 p.m. e.t. 3/4/13.

Docket Numbers: ER10-2609-004.

Applicants: Escanaba Paper Company.

Description: Escanaba Paper Company Market-Based Rate Tariff to be effective 2/12/2013.

Filed Date: 2/11/13.

Accession Number: 20130211-5131.

Comments Due: 5 p.m. e.t. 3/4/13.

Docket Numbers: ER13-410-001.

Applicants: Entergy Gulf States Louisiana, L.L.C.

Description: Compliance Filing to be effective 6/22/2012.

Filed Date: 2/11/13.

Accession Number: 20130211-5191.

Comments Due: 5 p.m. e.t. 3/4/13.

Docket Numbers: ER13-922-000.

Applicants: Northern States Power Company, a Wisconsin corporation.

Description: 2013-02-12_NSPW Medford Intercon Agrmt-NOC-317 to be effective 12/31/2012.

Filed Date: 2/12/13.

Accession Number: 20130212-5063.

Comments Due: 5 p.m. e.t. 3/5/13.

Docket Numbers: ER13-923-000.

Applicants: Arizona Public Service Company.

Description: Southwest Valley 500kV Project between SRP and APS to be effective 4/15/2013.

Filed Date: 2/12/13.

Accession Number: 20130212-5081.

Comments Due: 5 p.m. e.t. 3/5/13.

Docket Numbers: ER13-924-000.

Applicants: Midwest Independent Transmission System Operator, Inc.

Description: 02-12-2013 SA 2510 Rochester Minn La Crosse T-T IA to be effective 2/13/2013.

Filed Date: 2/12/13.

Accession Number: 20130212-5117.

Comments Due: 5 p.m. e.t. 3/5/13.

Docket Numbers: ER13-925-000.

Applicants: Midwest Independent Transmission System Operator, Inc.

Description: 02-12-2013 SA 2511 NSP-MN Minn La Crosse T-T IA to be effective 2/13/2013.

Filed Date: 2/12/13.

Accession Number: 20130212-5121.

Comments Due: 5 p.m. e.t. 3/5/13.

Docket Numbers: ER13-926-000.

Applicants: Midwest Independent Transmission System Operator, Inc.

Description: 02-12-2013 SA 2512 NSP-WI Wisc La Crosse Owners T-T IA to be effective 2/13/2013.

Filed Date: 2/12/13.

Accession Number: 20130212-5123.

Comments Due: 5 p.m. e.t. 3/5/13.

Docket Numbers: ER13-927-000.

Applicants: AES Beaver Valley, LLC.

Description: AES Beaver Valley, LLC submits Notice of Termination of Transmission Agreement.

Filed Date: 2/12/13.

Accession Number: 20130212-5134.

Comments Due: 5 p.m. e.t. 3/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2013.
Nathaniel J. Davis, Sr.,
Deputy Secretary.

[FR Doc. 2013-04075 Filed 2-21-13; 8:45 am]

BILLING CODE 6717-01-P